DEPARTMENT OF AGRICULTURE

Agricultural Marketing Service

7 CFR Part 63

[Doc. No. AMS-LPS-14-0028]

National Sheep Industry Improvement Center

AGENCY: Agricultural Marketing Service, USDA.

ACTION: Affirmation of interim rule as a final rule.

SUMMARY: The Agricultural Marketing Service (AMS) is affirming without changes, its interim rule to promulgate rules and regulations as provided under the Agriculture Act of 2014 (2014 Farm Bill). The Agricultural Marketing Service (AMS) amends the National Sheep Industry Improvement Center (NSIIC) regulations to redesignate the statutory authority from the Consolidated Farm and Rural Development Act to the Agricultural Marketing Act of 1946, amends the definition of Act consistent with the redesignated statutory authority, and amends the regulations by increasing the administrative cap for the use of the fund from 3 percent to 10 percent.

DATES: Effective Date: September 18, 2014.

FOR FURTHER INFORMATION CONTACT: Kenneth R. Payne, Director, Research and Promotion Division, Livestock, Poultry, and Seed Program; Telephone 202/720-5705; Fax: 202/720-1125; or email Kenneth.Payne@ams.usda.gov.

SUPPLEMENTARY INFORMATION: This action affirms the interim rule (79 FR 31843) published in the Federal Register on June 3, 2014, which redesignates the statutory authority for the program from section 375 (7 U.S.C. 2008j) of the Consolidated Farm and Rural Development Act to section 210 of the Agricultural Marketing Act of 1946 (7 U.S.C. 1621-1627). In addition, the definition of “Act” is amended under section 63.1 to be consistent with the redesignated statutory authority, and amends the regulations by increasing the administrative cap for the use of the fund from 3 percent to 10 percent. This section also affirms information contained in the interim rule concerning Executive Orders 12866, 13563, 12988, 13175, 13132, and the Paperwork Reduction Act of 1995 (PRA) (44 U.S.C. Chapter 35). Further for this action, the Office of Management and Budget has determined that this action is not significant under Executive Order 12866 and therefore has not been reviewed by OMB.

Background Information

The NSIIC was initially authorized under the Consolidated Farm and Rural Development Act (Act). The Act, as amended, was passed as part of the 1996 Farm Bill (Pub. L. 104-127). The initial legislation included a provision that privatized the NSIIC 10 years after its ratification or once the full appropriation of $50 million was disbursed. Subsequently, the NSIIC was privatized on September 30, 2006 (72 FR 28945).

In 2008, the NSIIC was re-established under Title XI of the Food, Conservation, and Energy Act of 2008 (Pub. L. 110-246), also known as the 2008 Farm Bill. Section 11009 of the 2008 Farm Bill repealed the requirement in section 375(e)(6) of the Act to privatize the NSIIC. Additionally, the 2008 Farm Bill provided for $1,000,000 in mandatory funding for fiscal year 2008 from the Commodity Credit Corporation for the NSIIC to remain available until expended, as well as authorization for appropriations in the amount of $10 million for each of fiscal years 2008 through 2012. In July 2010, the U.S. Department of Agriculture (USDA) promulgated rules and regulations establishing the NSIIC, consistent with the Food, Conservation, and Energy Act of 2008 (75 FR 43031). The rule established the NSIIC and a Board that will manage and be responsible for the general supervision of the activities of the NSIIC, with oversight from the USDA. The NSIIC is authorized to use funds to make grants to eligible entities in accordance with a strategic plan.

The authorizing legislation established in the United States Department of the Treasury the NSIIC Revolving Fund (Fund). The Fund was available to the NSIIC, without fiscal year limitation, to carry out the authorized programs and activities of the NSIIC. The law provides authority for amounts in the Fund to be used for direct loans, loan guarantees, cooperative agreements, equity interests, investments, repayable grants, and grants to eligible entities, either directly or through an intermediary, in accordance with a strategic plan submitted by the NSIIC to the Secretary. In accordance with the 2014 Farm Bill, AMS amends the NSIIC regulations at 7 CFR part 63 as provided for herein.

The current program authorizes a grant-only program administered by the NSIIC Board. Based on funding, the Board announces that proposals may be submitted to the Board for consideration from eligible entities. The Board determines how funds are allocated. Proposals submitted to the Board must be consistent with the purpose of the NSIIC.

Comments

On June 3, 2014, USDA published in the Federal Register (79 FR 31843) an interim rule with a request for comments to be received by July 3, 2014. USDA received no comments.

List of Subjects in 7 CFR Part 63

Administrative practice and procedure, Advertising, Lamb and Lamb products, Goat and Goat products, Consumer Information, Marketing agreements, Reporting and recordkeeping requirements.

PART 63—NATIONAL SHEEP INDUSTRY IMPROVEMENT CENTER

Accordingly, the interim rule that amended 7 CFR part 63, which was published on June 3, 2014, (79 FR 31843), is adopted as a final rule without change.

Dated: September 11, 2014.
Rex A. Barnes,
Associate Administrator.

[FR Doc. 2014-22125 Filed 9-16-14; 8:45 am]

BILLING CODE 3410-02-P